COMMISSION ON CIVIL RIGHTS

Agenda and Notice of Public Meeting of the North Carolina Advisory Committee

Notice is hereby given, pursuant to the provisions of the rules and regulations of the U.S. Commission on Civil Rights (Commission), and the Federal Advisory Committee Act (FACA), that a planning meeting of the North Carolina Advisory to the Commission will convene at 1 p.m. and adjourn at 5 p.m. on December 10, 2008, at 150 Fayetteville Street, 13th Floor, Raleigh, North Carolina 27601. The purpose of the meeting is for the Committee to plan its project for the fiscal year and receive a briefing on the status of civil rights in North Carolina.

Members of the public are entitled to submit written comments; the comments must be received in the regional office by December 12, 2008. The address is 61 Forsyth St., SW., Suite 18T40, Atlanta, Georgia 30303. Persons wishing to e-mail comments may do so to pminarik@usccr.gov. Persons who desire additional information should contact Peter Minarik, Regional Director, at (404) 562-7000 or 800-877-8339 for individuals who are deaf, hearing impaired, and/or have speech disabilities or by e-mail to pminarik@usccr.gov.

Hearing-impaired persons who will attend the meeting and require the services of a sign language interpreter should contact the Regional Office at least ten (10) working days before the scheduled date of the meeting.

Records generated from this meeting may be inspected and reproduced at the Southern Regional Office, as they become available, both before and after the meeting. Persons interested in the work of this advisory committee are advised to go to the Commission's Web site, http://www.usccr.gov, or to contact the Southern Regional Office at the above e-mail or street address.

The meeting will be conducted pursuant to the provisions of the rules and regulations of the Commission and FACA.

Dated in Washington, DC, November 14, 2008.
Christopher Byrnes,
Chief, Regional Programs Coordination Unit.

[FR Doc. E8-27493 Filed 11-18-08; 8:45 am]

BILLING CODE 6335-01-P